DEPARTMENT OF LABOR

Occupational Safety and Health Administration

29 CFR Parts 1910, 1915, 1917, 1918, 1926, and 1928

[Docket No. OSHA-2021-0007]

RIN 1218-AD42

COVID-19 Vaccination and Testing; Emergency Temporary Standard

AGENCY: Occupational Safety and Health Administration (OSHA), Department of Labor.

ACTION: Interim final rule; extension of comment period.

SUMMARY: The period for submitting public comments is being extended by 45 days to allow stakeholders interested in the COVID-19 vaccination and testing emergency temporary standard (ETS) additional time to review the ETS and collect information and data necessary for comment.

DATES: The comment period for the interim final rule on the ETS, which was published November 5, 2021 at 86 FR 6140, and effective on November 5, 2021, is extended. Comments on any aspect of the ETS and whether the ETS should be adopted as a permanent standard must be submitted by January 19, 2022.

ADDRESSES:

Written comments: You may submit comments and attachments, identified by Docket No. OSHA-2021-0007, electronically at www.regulations.gov, which is the Federal e-Rulemaking Portal. Follow the online instructions for making electronic submissions. The Federal e-Rulemaking Portal at www.regulations.gov is the only way to submit comments on this rule.

Instructions: All submissions must include the agency's name and the docket number for this rulemaking (Docket No. OSHA-2021-0007). All comments, including any personal information you provide, are placed in the public docket without change and may be made available online at www.regulations.gov. Therefore, OSHA cautions commenters about submitting information they do not want made available to the public or submitting materials that contain personal information (either about themselves or others), such as Social Security Numbers and birthdates.

Docket: To read or download comments or other material in the docket, go to Docket No. OSHA-2021-0007 at www.regulations.gov. All comments and submissions are listed in the www.regulations.gov index; however, some information (e.g., copyrighted material) is not publicly available to read or download through that website. All comments and submissions, including copyrighted material, are available for inspection through the OSHA Docket Office. Documents submitted to the docket by OSHA or stakeholders are assigned document identification numbers (Document ID) for easy identification and retrieval. The full Document ID is the docket number (OSHA-2021-0007) plus a unique four-digit or five-digit code (e.g., OSHA-2021-0007-0001). When citing materials in the docket, OSHA includes the term “Document ID” followed by the last four or five digits of the Document ID number (e.g., Document ID 0001). Document ID numbers are used to identify docket materials in this notice. However, OSHA identified supporting information in the ETS (86 FR 61402) by author name and publication year, when appropriate. The agency has also provided a spreadsheet in the docket that identifies the full Document ID for each reference cited in the ETS (see Document ID 0493). This information can be used to search for a supporting document in the docket at www.regulations.gov. Contact the OSHA Docket Office at 202-693-2350 (TTY number: 877-889-5627) for assistance with locating docket submissions.

FOR FURTHER INFORMATION CONTACT:

General information and press inquiries: Contact Frank Meilinger, Director, Office of Communications, U.S. Department of Labor; telephone (202) 693-1999; email OSHAComms@dol.gov.

For technical inquiries: Contact Andrew Levinson, Directorate of Standards and Guidance, U.S. Department of Labor; telephone (202) 693-1950; email ETS@dol.gov.

SUPPLEMENTARY INFORMATION: On November 5, 2021, OSHA issued an ETS to protect unvaccinated employees of large employers (100 or more employees) from the risk of contracting COVID-19 by strongly encouraging vaccination. Covered employers must develop, implement, and enforce a mandatory COVID-19 vaccination policy, with an exception for employers that instead adopt a policy requiring employees to either get vaccinated or elect to undergo regular COVID-19 testing and wear a face covering at work in lieu of vaccination.

The public comment period for the ETS was to close on December 6, 2021. However, OSHA received requests from several stakeholders to extend the comment period. Most requested an additional 60 days, which would result in a new comment deadline of February 4, 2022 (see, e.g., Document ID 0503; 0525; 0574; 0575; 0576; 0577; 0578). These stakeholders explained that they need additional time to thoroughly review the ETS, gather input from members, and prepare comprehensive comments (see, e.g., Document ID 0503; 0525; 0574; 0575; 0576; 0577; 0578).

OSHA agrees to an extension and believes a 45-day extension of the public comment period is sufficient and strikes an appropriate balance between the agency's need for timely input and stakeholders' requests for additional time to prepare comprehensive comments. Therefore, the public comment period will be extended until January 19, 2022.

Authority and Signature

Douglas L. Parker, Assistant Secretary of Labor for Occupational Safety and Health, U.S. Department of Labor, 200 Constitution Avenue NW, Washington, DC 20210, authorized the preparation of this document pursuant to the following authorities: Sections 4, 6, and 8 of the Occupational Safety and Health Act of 1970 (29 U.S.C. 653, 655, 657); Secretary of Labor's Order 8-2020 (85 FR 58393 (Sept. 18, 2020)); 29 CFR part 1911; and 5 U.S.C. 553.

Signed at Washington, DC, on November 29, 2021.
Douglas L. Parker,
Assistant Secretary of Labor for Occupational Safety and Health.

[FR Doc. 2021-26268 Filed 12-2-21; 8:45 am]

BILLING CODE 4510-26-P